DEPARTMENT OF DEFENSE

Department of the Navy

Notice of Public Hearings for the Draft Environmental Impact Statement/Overseas Environmental Impact Statement for the Gulf of Alaska Navy Training Activities; Correction

AGENCY: Department of Navy, DoD.

ACTION: Notice; correction.

SUMMARY: The Department of the Navy published a document in the Federal Register (74 FR 65761) of December 11, 2009, concerning public hearings on a Draft Environmental Impact Statement/Overseas Environmental Impact Statement for the Gulf of Alaska Navy Training Activities. The document contained an incorrect date.

FOR FURTHER INFORMATION CONTACT: Naval Facilities Engineering Command Northwest, Attention: Mrs. Amy Burt, Gulf of Alaska Navy Training Activities EIS/OEIS Project Manager, 1101 Tautog Circle, Suite 203, Silverdale, WA 98315-1101; or http://www.GulfofAlaskaNavyEIS.com.

Correction

In the Federal Register (74 FR 65761) of December 11, 2009, on page 65762, in the first column, correct the fifth paragraph to read:

5. Tuesday, January 12, 2010, at Orca Adventure Lodge Meeting Room & Café, 2500 Orca Road, Cordova, Alaska.

Dated: December 15, 2009.
T. M. Cruz,
Lieutenant Commander, Office of the Judge Advocate General, U.S. Navy, Alternate Federal Register Liaison Officer.

[FR Doc. E9-30318 Filed 12-18-09; 8:45 am]

BILLING CODE 3810-FF-P